NUCLEAR REGULATORY COMMISSION

[Docket Nos. 50-445 and 50-446; NRC-2022-0183]

Notice of Intent To Conduct Scoping Process and Prepare Environmental Impact Statement; Vistra Operations Company LLC; Comanche Peak Nuclear Power Plant, Units 1 and 2

AGENCY: Nuclear Regulatory Commission.

ACTION: Intent To conduct scoping process and prepare environmental impact statement; public scoping meeting, and request for comment.

SUMMARY: The U.S. Nuclear Regulatory Commission (NRC) will conduct a scoping process to gather information necessary to prepare an environmental impact statement (EIS) to evaluate the environmental impacts for the license renewal of the operating licenses for Comanche Peak Nuclear Power Plant (CPNPP), Units 1 and 2. The NRC is seeking public comment on this action and has scheduled a public scoping meeting that will take place in Glen Rose, Texas.

DATES: The NRC will hold a public scoping meeting on January 10, 2023, from 1 to 3 p.m. and 5 to 7 p.m. local time. Submit comments on the scope of the EIS by January 30, 2023. Comments received after this date will be considered if it is practical to do so, but the NRC is able to ensure consideration only for comments received on or before this date. See Section IV, “Public Scoping Meeting,” of this notice for additional information.

ADDRESSES: You may submit comments by any of the following methods; however, the NRC encourages electronic comment submission through the Federal rulemaking website.

• Federal rulemaking website: Go to https://www.regulations.gov and search for Docket ID NRC-2022-0183. Address questions about Docket IDs in Regulations.gov to Stacy Schumann; telephone: 301-415-0624; email: Stacy.Schumann@nrc.gov. For technical questions, contact the individual listed in the For Further Information Contact section of this document.

• Email comments to: ComanchePeakEIS@nrc.gov.

• Attend the transcribed public meetings on January 10, 2023.

• Mail comments to: Office of Administration, Mail Stop TWFN-7-A60M, U.S. Nuclear Regulatory Commission, Washington, DC 20555-0001.

For additional direction on obtaining information and submitting comments, see “Obtaining Information and Submitting Comments” in the SUPPLEMENTARY INFORMATION section of this document.

FOR FURTHER INFORMATION CONTACT: Tam Tran, Office of Nuclear Material Safety and Safeguards, U.S. Nuclear Regulatory Commission, Washington, DC 20555-0001; telephone: 301-415-3617; email: Tam.Tran@nrc.gov.

SUPPLEMENTARY INFORMATION:

I. Obtaining Information and Submitting Comments

A. Obtaining Information

Please refer to Docket ID NRC-2022-0183 when contacting the NRC about the availability of information regarding this document. You may obtain publicly available information related to this document by any of the following methods:

• Federal Rulemaking Website: Go to https://regulations.gov and search for Docket ID NRC-2022-0183.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. The ADAMS accession number for each document referenced in this document (if it is available in ADAMS) is provided the first time that a document is referenced.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. Eastern Time (ET), Monday through Friday, except Federal holidays.

B. Submitting Comments

The NRC encourages electronic comment submission through the Federal rulemaking website (https://www.regulations.gov). Please include Docket ID NRC-2022-0183 in your comment submission to ensure that the NRC can make your comment submission available to the public in this docket.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Discussion

On October 3, 2022, the NRC received an application for the renewal of Facility Operating License Nos. NPF-87 and NPF89, which would authorize Vistra Operations Company LLC (Vistra, the applicant) to operate CPNPP, Units 1 and 2 for an additional 20 years of operation beyond the period specified in each of the current licenses (ADAMS Accession No. ML22276A082). This submission initiated the NRC's proposed action: determining whether to grant or deny the license renewal application for power reactor operating licenses, which, if granted, would authorize CPNPP Units 1 and 2 to operate for an additional 20 years beyond the period specified in each of the current licenses. The CPNPP units are pressurized-water reactors designed by Westinghouse Electric Corporation and are in Somervell County, Texas. The current operating license for Unit 1 expires at midnight on February 8, 2030, and the current operating license for Unit 2 expires at midnight on February 2, 2033. The license renewal application was submitted pursuant to part 54 of title 10 of the Code of Federal Regulations (10 CFR), “Requirements for Renewal of Operating Licenses for Nuclear Power Plants,” and included an environmental report (ER). A notice of receipt and availability of the application was published in the Federal Register on October 31, 2022 (87 FR 65617). A notice of acceptance for docketing of the application and opportunity for hearing regarding the license renewal of the CPNPP Units 1 and 2 operating licenses was published on December 1, 2022 (87 FR 73798) and is available in Regulations.gov by searching for Docket ID NRC-2022-0183.

III. Request for Comments

This notice informs the public of the NRC's intention to conduct environmental scoping and prepare an EIS related to the license renewal application for CPNPP, and to provide the public an opportunity to participate in the environmental scoping process, as defined in 10 CFR 51.29.

The regulations in 36 CFR 800.8, “Coordination with the National Environmental Policy Act,” allow agencies to use their National Environmental Policy Act of 1969 (42 U.S.C. 4321, et seq.) (NEPA) process to fulfill the requirements of Section 106 of the National Historic Preservation Act (54 U.S.C. 300101, et seq.) (NHPA). Therefore, pursuant to 36 CFR 800.8(c), the NRC intends to use its process and documentation for the preparation of the EIS on the proposed action to comply with Section 106 of the NHPA in lieu of the procedures set forth at 36 CFR 800.3 through 800.6.

In accordance with 10 CFR 51.53(c) and 10 CFR 54.23, Vistra submitted an ER as part of the license renewal application. The ER was prepared pursuant to 10 CFR part 51 and is available in ADAMS under Accession No. ML22297A246. The ER may also be viewed on the NRC public website at https://www.nrc.gov/reactors/operating/licensing/renewal/applications.html. In addition, the license renewal application, including the ER, are available for public review at the Somervell County Library, 108 Allen Dr., Glen Rose, TX 76043 and Hood County Library, 222 N Travis St. Granbury, TX 76048.

As required by 10 CFR 51.95, the NRC intends to gather the information necessary to prepare a plant-specific supplement (supplement 60) to the NRC's NUREG-1437, “Generic Environmental Impact Statement for License Renewal of Nuclear Plants” (ADAMS Package Accession No. ML13107A023) (GEIS), related to the license renewal application for CPNPP Units 1 and 2. This notice is being published in accordance with NEPA and the NRC's regulations found at 10 CFR part 51.

Supplement 60 to the GEIS will evaluate the environmental impacts of the license renewal for CPNPP Units 1 and 2, and reasonable alternatives thereto. Possible alternatives to the proposed action include the no action alternative and reasonable alternative energy sources.

As part of its environmental review, the NRC will first conduct a scoping process for the supplement 60 to the GEIS and, as soon as practicable thereafter, will prepare a draft supplement 60 to the GEIS for public comment. Participation in this scoping process by members of the public and local, State, Tribal, and Federal government agencies is encouraged. The scoping process for the supplement 60 to the GEIS will be used to accomplish the following:

a. Define the proposed action, which is to be the subject of the supplement 60 to the GEIS;

b. Determine the scope of the supplement 60 to the GEIS and identify the significant issues to be analyzed in depth;

c. Identify and eliminate from detailed study those issues that are peripheral or are not significant; or were covered by a prior environmental review;

d. Identify any environmental assessments and other ElSs that are being or will be prepared that are related to, but are not part of, the scope of the supplement 60 to the GEIS being considered;

e. Identify other environmental review and consultation requirements related to the proposed action;

f. Indicate the relationship between the timing of the preparation of the environmental analyses and the Commission's tentative planning and decisionmaking schedule;

g. Identify any cooperating agencies and, as appropriate, allocate assignments for preparation and schedules for completing the supplement 60 to the GEIS to the NRC and any cooperating agencies; and

h. Describe how the supplement 60 to the GEIS will be prepared, including any contractor assistance to be used.

The NRC invites the following entities to participate in scoping:

a. The applicant, Vistra;

b. Any Federal agency that has jurisdiction by law or special expertise with respect to any environmental impact involved or that is authorized to develop and enforce relevant environmental standards;

c. Affected State and local government agencies, including those authorized to develop and enforce relevant environmental standards;

d. Any affected Indian Tribe;

e. Any person who requests or has requested an opportunity to participate in the scoping process; and

f. Any person who has petitioned or intends to petition for leave to intervene under 10 CFR 2.309.

IV. Public Scoping Meeting

In accordance with 10 CFR 51.26(b), the scoping process for an EIS may include a public scoping meeting to help identify significant issues related to a proposed activity and to determine the scope of issues to be addressed in an EIS.

The NRC is announcing that it will hold a public scoping meeting for the CPNPP Units 1 and 2 license renewal supplement 60 to the GEIS. A court reporter will record and transcribe all comments received during the meeting. To be considered, comments must be provided either at the transcribed public meeting or in writing, as discussed in the ADDRESSES section of this document. The date and times for the public scoping meetings are as follows:

Meeting | Date | Time | Location
Public EIS Scoping | Tuesday, 1/10/2023 | 1 to 3 p.m., as necessary, and 5 to 7 p.m., as necessary, local time | Somervell County Expo Center, 202 Bo Gibbs Blvd., W Hwy. 67, Glen Rose, TX 76043.

In addition, the NRC staff will host informal discussions one hour before the start of each session at the same location. The staff will not accept formal comments on the proposed scope of the supplement 60 to the GEIS during these informal discussions.

The public scoping meeting will include: (1) an overview by the NRC staff of the environmental and safety review processes, the proposed scope of the supplement 60 to the GEIS, and the proposed review schedule; and (2) the opportunity for interested government agencies, organizations, and individuals to submit comments or suggestions on environmental issues or the proposed scope of the supplement 60 to the GEIS.

Persons interested in attending should monitor the NRC's Public Meeting Schedule at https://www.nrc.gov/pmns/mtg for additional information and agendas for the meetings. Please contact Tam Tran no later than December 21, 2022, if accommodations, including a telephone bridgeline, special equipment, or translation is needed to attend or to provide comments, so that the NRC staff can determine whether the request can be accommodated.

Participation in the scoping process for the supplement 60 to the GEIS does not entitle participants to become parties to the proceeding to which the supplement 60 to the GEIS relates. Matters related to participation in any hearing are outside the scope of matters to be discussed at this public meeting.

Dated: December 8, 2022.
For the Nuclear Regulatory Commission.
John M. Moses,
Deputy Director, Division of Rulemaking, Environment, and Financial Support, Office of Nuclear Material Safety, and Safeguards.

[FR Doc. 2022-27025 Filed 12-12-22; 8:45 am]

BILLING CODE 7590-01-P